DEPARTMENT OF HOMELAND SECURITY

Coast Guard

[USCG-2013-0568]

Great Lakes Pilotage Advisory Committee

AGENCY: Coast Guard, DHS.

ACTION: Committee Management; Notice of Federal Advisory Committee Meeting.

SUMMARY: The Great Lakes Pilotage Advisory Committee (GLPAC) will meet virtually on July 15, 2013. The meeting will be open to the public via a web-enabled interactive online format and teleconference line. Seating will be available at Coast Guard Headquarters in Washington, DC for those interested.

DATES: GLPAC will meet on Monday, July 15, 2013, from 9:00 a.m. to 12:00 p.m. Please note the meeting may close early if the committee completes its business. Written material and requests to make oral presentations should reach us on or before July 12, 2013.

ADDRESSES: This meeting will be broadcast via a web-enabled interactive online format and teleconference line. To participate via teleconference dial 1-888-464-2980 and enter passcode 4460249. Additionally, if you would like to participate in this meeting via on the online web format, please log on to: https://connect.hsin.gov/glpac2013 and follow the online instructions to register for the meeting. Public meeting space will also be available for anyone interested in participating in the teleconference and web format from Coast Guard Headquarters in Washington, DC. The meeting will be hosted from Room 5-1309 in Coast Guard Headquarters located at 2100 2nd Street SW., Washington, DC 20593. All visitors to Coast Guard Headquarters will have to pre-register to be admitted to the building. Please provide your name, telephone number and organization by close of business on July 12, 2013, to the contact person listed in FOR FURTHER INFORMATION CONTACT: below. Additionally, all visitors to Coast Guard Headquarters must provide identification in the form of government-issued picture identification card for access to the facility.

For information on facilities or services for individuals with disabilities or to request special assistance at the meeting, contact the person listed in FOR FURTHER INFORMATION CONTACT: below as soon as possible.

To facilitate public participation, we are inviting public comment on the issues to be considered by the committee as listed in the “Agenda” section below. Comments must be submitted in writing no later than July 12, 2013, and must be identified by [USCG-2013-0568] and may be submitted by one of the following methods:

• Federal eRulemaking Portal: http://www.regulations.gov. Follow the instructions for submitting comments.

• Fax: 202-493-2251.

• Mail: Docket Management Facility (M-30), U.S. Department of Transportation, West Building Ground Floor, Room W12-140, 1200 New Jersey Avenue SE., Washington, DC 20590-0001.

• Hand Delivery: Same as mail address above between 9 a.m. and 5 p.m., Monday through Friday, except Federal holidays. The telephone number is 202-366-9329. To avoid duplication, please use only one of these four methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, and use “USCG-2013-0568” as your search term.

A public comment period of up to one hour will be held during the meeting on July 15, 2013, after the committee completes its work on the agenda given under SUPPLEMENTARY INFORMATION. Speakers are requested to limit their comments to 5 minutes. Please note that the public comment period may end before the hour allotted, following the last call for comments. Contact the individual listed below to register as a speaker.

FOR FURTHER INFORMATION CONTACT: Mr. David Dean, GLPAC Alternate Designated Federal Officer (ADFO), Commandant (CG-WWM-2), U.S. Coast Guard Headquarters, 2100 Second Street SW., Stop 7580, Washington, DC 20593-7580; telephone 202-372-1533, fax 202-372-1914, or email at David.J.Dean@uscg.mil. If you have questions on viewing or submitting material to the docket, call Barbara Hairston, Program Manager, Docket Operations, telephone 202-366-9826.

SUPPLEMENTARY INFORMATION: Notice of this meeting is given under the Federal Advisory Committee Act, 5 U.S.C. App. (Pub. L. 92-463). GLPAC was established under the authority of 46 U.S.C. 9307, and makes recommendations to the Secretary of Homeland Security and the Coast Guard on matters relating to Great Lakes pilotage, including review of proposed Great Lakes pilotage regulations and policies.

GLPAC expects to meet at least once more this year to discuss the way ahead and provide recommendations after a thorough review of public comments and discussion from this meeting. Further information about GLPAC is available by going to the Web site: https://www.facadatabase.gov. Click on the search tab and type “Great Lakes” into the search form. Then select “Great Lakes Pilotage Advisory Committee” from the list.

Agenda

1. Presentation of the final draft of the comprehensive pilotage study; a copy of the study is posted to the electronic docket. Please see instructions below for access.

2. Public comment period of up to one hour.

3. Discussion of the final draft of the comprehensive pilotage study and public comments to determine the way ahead.

More detailed information and materials relating to these issues appear in the docket, including a copy of the pilotage study, at http://www.regulations.gov. Use “USCG-2013-0568” as your search term.

D.A. Goward,
Director Marine Transportation Systems, U.S. Coast Guard.

[FR Doc. 2013-15494 Filed 6-26-13; 8:45 am]

BILLING CODE 9110-04-P